ENVIRONMENTAL PROTECTION AGENCY

[FRL-9909-27-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at Kerwin.Courtney@epa.gov and please refer to the appropriate EPA Information Collection Request (ICR) Number.

SUPPLEMENTARY INFORMATION:

OMB Responses to Agency Clearance Requests

OMB Approvals

EPA ICR Number 1663.08; Compliance Assurance Monitoring Program (Renewal); 40 CFR part 64; was approved on 03/28/2014; OMB Number 2060-0376; expires on 03/31/2017; Approved with change.

EPA ICR Number 2227.04; NSPS for Stationary Spark Ignition Internal Combustion Engines (Renewal); 40 CFR part 60, subparts A and JJJJ; was approved on 03/28/2014; OMB Number 2060-0610; expires on 03/31/2017; Approved without change.

EPA ICR Number 1569.08; Approval of State Coastal Nonpoint Pollution Control Programs (Renewal); 15 CFR part 923; was approved on 03/28/2014; OMB Number 2040-0153; expires on 03/31/2017; Approved without change.

EPA ICR Number 1080.14; NESHAP for Benzene Emission from Benzene Storage Vessels and Coke By Product Recovery Plants (Renewal); 40 CFR part 61, subparts A, L, and Y; was approved on 03/28/2014; OMB Number 2060-0185; expires on 03/31/2017; Approved without change.

EPA ICR Number 2383.03; NESHAP for Gold Mine Ore Processing (Renewal); 40 CFR parts 63 and 40, subparts A and EEEEEEE; was approved on 03/28/2014; OMB Number 2060-0659; expires on 03/31/2017; Approved without change.

EPA ICR Number 2369.03; NSPS for Sewage Sludge Incinerators (Renewal); 40 CFR part 60, subparts A and LLLL; was approved on 03/28/2014; OMB Number 2060-0658; expires on 03/31/2017; Approved without change.

EPA ICR Number 2457.02; NESHAP for Group IV Polymers and Resins (Final Rule); 40 CFR part 63 subpart JJJ; was approved on 03/27/2014; OMB Number 2060-0682; expires on 03/31/2017; Approved without change.

EPA ICR Number 2484.02; Willingness To Pay for Santa Cruz River Management Options in Southern Arizona (Change); was approved on 03/06/2014; OMB Number 2080-0080; expires on 02/28/2015; Approved without change.

EPA ICR Number 0234.11; Performance Evaluation Studies on Wastewater Laboratories (Renewal); was approved on 03/04/2014; OMB Number 2080-0021; expires on 03/31/2017; Approved with change.

EPA ICR Number 1808.07; Environmental Impact Assessment of Nongovernmental Activities in Antarctica (Renewal); 40 CFR part 8; was approved on 03/04/2014; OMB Number 2020-0007; expires on 03/31/2017; Approved without change.

EPA ICR Number 1136.11; NSPS for VOC Emissions from Petroleum Refinery Wastewater Systems (Renewal); 40 CFR part 60 subparts A and QQQ; was approved on 03/04/2014; OMB Number 2060-0172; expires on 03/31/2017; Approved without change.

Comment Filed

EPA ICR Number 1807.06; NESHAP for Pesticide Active Ingredient Production (Proposed Rule); 40 CFR part 63 subparts A and MMM; OMB filed comment on 03/28/2014.

EPA ICR Number 2443.01; NSPS for Residential Masonry Heaters (Proposed Rule); 40 CFR part 60 subparts A and RRRR; OMB filed comment on 03/06/2014.

EPA ICR Number 2442.01; NSPS for New Residential Hydronic Heaters and Forced-Air Furnaces (Proposed Rule); 40 CFR part 60 subparts A and QQQQ; OMB filed comment on 03/06/2014.

Dated: April 16, 2014.
Erin Collard,
Acting Director, Collections Strategies Division.

[FR Doc. 2014-09454 Filed 4-24-14; 8:45 am]

BILLING CODE 6560-50-P